DEPARTMENT OF COMMERCE

Bureau of Industry and Security

Materials and Equipment Technical Advisory Committee; Notice of Open Meeting—Virtual

The Materials and Equipment Technical Advisory Committee will meet on March 26, 2024, 10 a.m., eastern daylight time. This meeting will be virtual via MS Teams. The Committee advises the Office of the Assistant Secretary for Export Administration with respect to technical questions that affect the level of export controls applicable to transportation and related equipment or technology. The purpose of the meeting is to have Committee members and U.S. Government representatives mutually review updated technical data and policy-driving information that has been gathered.

Agenda

Open Session

1. Opening Remarks and Introduction by BIS Senior Management.

2. Presentation on 2B350 Manufactured Equipment

3. Presentations from METAC members.

4. Report from working groups.

The open session will be accessible via teleconference. To join the conference, submit inquiries to Yvette Springer at Yvette.Springer@bis.doc.gov, no later than March 19, 2024.

To the extent time permits, members of the public may present oral statements to the Committee. The public may submit written statements at any time before or after the meeting. However, to facilitate distribution of public presentation materials to Committee members, the Committee suggests that presenters forward the public presentation materials prior to the meeting to Ms. Springer.

For more information, contact Ms. Springer.

Yvette Springer,
Committee Liaison Officer.

[FR Doc. 2024-05109 Filed 3-8-24; 8:45 am]

BILLING CODE 3510-JT-P